DEPARTMENT OF THE INTERIOR

Bureau of Land Management

[17X LLWO600000.L18200000.XP0000]

Albuquerque District Resource Advisory Council; Postponement of Meeting

AGENCY: Bureau of Land Management, Interior.

ACTION: Notice.

SUMMARY: The May 1, 2017, Albuquerque District Resource Advisory Council meeting has been postponed.

DATES: The meeting was scheduled for May 1, 2017, in Socorro, New Mexico, and will be rescheduled at a later date. We will publish a future notice with the new meeting date and location.

FOR FURTHER INFORMATION CONTACT: Jack River, Forester, BLM Albuquerque District Office, (505) 761-8755; or by email at jriver@blm.gov. Persons who use a telecommunications device for the deaf (TDD) may call the Federal Relay Service (FRS) at 1-800-877-8339 to leave a message or question for Mr. River. The FRS is available 24 hours a day, 7 days a week. You will receive a reply during normal business hours.

SUPPLEMENTARY INFORMATION: The 10-member council advises the Secretary of the Interior, through the BLM, on a variety of planning and management issues associated with public land management in BLM's Albuquerque District. Additional information is available in the meeting notice published on April 10, 2017 (82 FR 17277).

Authority: 5 U.S.C. Appendix 2.

Patrick Wilkinson,
Acting Assistant Director, Communications.

[FR Doc. 2017-09006 Filed 5-3-17; 8:45 am]

BILLING CODE 4310-84-P